DEPARTMENT OF STATE

[Public Notice: 5202]

60-Day Notice of Proposed Information Collection: Form DS-6001, Request for an Advisory Opinion, OMB Control Number 1405-XXXX; Form DS-6002, Prior Notification (22 CFR 126.8), OMB Control Number 1405-XXXX; Form DS-6003, Request for Reconsideration of Unclassified Proviso(s), OMB Control Number 1405-XXXX; DS-6004, Request To Change End User, End Use and/or Destination of Hardware, OMB Control Number 1405-XXXX

ACTION: Notice of request for public comments.

SUMMARY: The Department of State is seeking Office of Management and Budget (OMB) approval for the information collections described below. The purpose of this notice is to allow 60 days for public comment in the Federal Register preceding submission to OMB. We are conducting this process in accordance with the Paperwork Reduction Act of 1995.

• Title of Information Collection: Request for an Advisory Opinion.

• OMB Control Number: None.

• Type of Request: New Collection.

• Originating Office: Bureau of Political-Military Affairs, Directorate of Defense Trade Controls, (PM/DDTC).

• Form Number: DS-6001.

• Respondents: Business organizations.

• Estimated Number of Respondents: 250.

• Estimated Number of Responses: 250.

• Average Hours Per Response: 1 hour.

• Total Estimated Burden: 250 hours.

• Frequency: On Occasion.

• Obligation to Respond: Mandatory.

• Title of Information Collection: Prior Notification (22 CFR 126.8).

• OMB Control Number: None.

• Type of Request: New Collection.

• Originating Office: Bureau of Political-Military Affairs, Directorate of Defense Trade Controls, (PM/DDTC).

• Form Number: DS-6002.

• Respondents: Business organizations.

• Estimated Number of Respondents: 15.

• Estimated Number of Responses: 15.

• Average Hours Per Response: 1 hour.

• Total Estimated Burden: 15 hours.

• Frequency: On Occasion.

• Obligation to Respond: Mandatory.

• Title of Information Collection: Request for Reconsideration of Unclassified Proviso(s).

• OMB Control Number: None.

• Type of Request: New Collection.

• Originating Office: Bureau of Political-Military Affairs, Directorate of Defense Trade Controls, (PM/DDTC).

• Form Number: DS-6003.

• Respondents: Business organizations.

• Estimated Number of Respondents: 100.

• Estimated Number of Responses: 200 (respondents may submit more than one response).

• Average Hours Per Response: 1 hour.

• Total Estimated Burden: 200 hours.

• Frequency: On Occasion.

• Obligation to Respond: Mandatory.

• Title of Information Collection: Request to Change End User, End Use and/or Destination of Hardware.

• OMB Control Number: None.

• Type of Request: New Collection.

• Originating Office: Bureau of Political-Military Affairs, Directorate of Defense Trade Controls, (PM/DDTC).

• Form Number: DS-6004.

• Respondents: Business organizations.

• Estimated Number of Respondents: 300.

• Estimated Number of Responses: 650 (respondents may submit more than one response).

• Average Hours Per Response: 1 hour.

• Total Estimated Burden: 650 hours.

• Frequency: On Occasion.

• Obligation to Respond: Mandatory.

dates: The Department will accept comments from the public up to 60 days from Friday, October 7, 2005.

addresses: Comments and questions should be directed to Angelo Chang, Office of Defense Trade Controls Management, Bureau of Political Military Affairs, Department of State, who may be reached by the following methods:

• E-mail: ChangAA@state.gov.

• Mail: Angelo Chang, Office of Defense Trade Controls Management, Bureau of Political-Military Affairs, Department of State, SA-1, Room H1200, Washington, DC 20522-0112.

• Fax: 202-261-8199.

• Hand Delivery or Courier: Angelo Chang, Office of Defense Trade Controls Management, Bureau of Political-Military Affairs, Department of State, SA-1, 12th Floor, 2401 E Street, NW., Washington, DC 20037. You must include the DDS form number and information collection title in the subject line of your message.

for further information contact: Direct requests for additional information regarding the collection listed in this notice, including requests for copies of the proposed information collection and supporting documents, to Angelo Chang, Acting Director, Office of Defense Trade Controls Management, Bureau of Political-Military Affairs, SA-1, Room H1200, 2401 E Street, NW., Washington, DC 20037, who may be reached via e-mail at ChangAA@state.gov.

supplementary information:

We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Procedure to submit an advisory opinion as to whether the Directorate of Defense Trade Controls would likely grant a license or other approval for an export transaction (Form DS-6001). Also, the DS-6001 may be used to satisfy the prior approval requirements of 22 CFR 126.8 for a proposal to sell or manufacture abroad significant military equipment to foreign persons. Prior notification in accordance with 22 CFR 126.8(a)(2) regarding the sale of significant military equipment is submitted using form SD-6002. In order to request a change in the provisos(s) placed on an export license, the DS-6003 is submitted. To request a change to the end user, end use and/or destination of hardware prior to any sale, transfer, transshipment or disposal, whether permanent or temporary, of classified or unclassified defense articles to any end user, end use or destination other than as stated on a license or other approval is submitted using form DS-6004.

Methodology: These forms/information collections may be sent to the Directorate of Defense Trade Controls via the following methods: Mail, personal delivery, and/or electronically.

Dated: September 19, 2005.
Michael T. Dixon,
Acting Deputy Assistant Secretary for Defense Trade Controls, Bureau of Political-Military Affairs, Department of State.

[FR Doc. 05-20227 Filed 10-6-05; 8:45 am]

BILLING CODE 4710-25-M